DEPARTMENT OF LABOR

Employment and Training Administration

[TA-W-40,075]

Pohlman Foundry Company, Inc., Freedom Services, Inc., Buffalo, NY; Amended Certification Regarding Eligibility To Apply for Worker Adjustment Assistance

In accordance with Section 223 of the Trade Act of 1974 (19 U.S.C. 2273) the Department of Labor issued a Certification of Eligibility to Apply for Worker Adjustment Assistance on March 27, 2002, applicable to workers of Pohlman Foundry Company, Inc., Buffalo, New York. The notice was published in the Federal Register on April 5, 2002 (67 FR 16442).

At the request of the State agency, the Department reviewed the certification for workers of the subject firm. The workers were engaged in the production of steel and cast iron castings.

New information shows that workers of Freedom Services, Inc. provided payroll function services for Pohlman Foundry Company, Inc., Buffalo, New York. Information also shows that workers separated from employment at the subject firm had their wages reported under a separate unemployment insurance (UI) tax account for Freedom Services, Inc.

Therefore, the certification is being amended to include workers at the Buffalo, New York location whose wages were reported to the Freedom Services, Inc. tax account.

The intent of the Department's certification is to include all workers of Pohlman Foundry Company, Inc. who were adversely affected by increased imports.

The amended notice applicable to TA-W-40,075 is hereby issued as follows:

“All workers of Pohlman Foundry Company, Inc., Freedom Services, Inc., Buffalo, New York who became totally or partially separated from employment on or after September 6, 2000, through March 27, 2004, are eligible to apply for adjustment assistance under Section 223 of the Trade Act of 1974.”

Signed at Washington, DC this 17th day of January 2003.
Linda G. Poole,
Certifying Officer, Division of Trade Adjustment Assistance.

[FR Doc. 03-2869 Filed 2-5-03; 8:45 am]

BILLING CODE 4510-30-P